DEPARTMENT OF COMMERCE

National Oceanic and Atmospheric Administration

RIN 0648-XG258

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held June 26, 2018, from 8:30 a.m. to 12 p.m. and 2 p.m. to 5:15 p.m., and June 27, from 8:30 a.m. to 12 p.m.

ADDRESSES: The meeting will be held at the Port of Portland, 7200 NE Airport Way, Portland, OR 97218; 503-415-6000.

FOR FURTHER INFORMATION CONTACT: Heidi Lovett, MAFAC Assistant Director; 301-427-8034; email: Heidi.Lovett@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at https://www.fisheries.noaa.gov/topic/partners#marine-fisheries-advisory-committee.

Matters To Be Considered

This meeting time and agenda are subject to change.

The meeting is convened to hear presentations and updates and to discuss policies and guidance on the following topics: Columbia Basin Partnership Task Force efforts on the conservation and restoration of salmon and steelhead; NMFS communications and outreach in support of U.S. seafood competitiveness; outcomes of the recreational fisheries summit; and the budget outlook for FY2018 and FY2019. MAFAC will discuss various administrative and organizational matters, Federal Advisory Committee Act ethics and general law, and meetings of subcommittees and working groups may be convened.

Special Accommodations

The meeting is physically accessible to people with disabilities. Requests for sign language interpretation or other auxiliary aids should be directed to Heidi Lovett; 301-427-8034 by June 15, 2018.

Dated: June 1, 2018.
Jennifer L. Lukens,
Federal Program Officer, Marine Fisheries Advisory Committee, National Marine Fisheries Service.

[FR Doc. 2018-12197 Filed 6-6-18; 8:45 am]

BILLING CODE 3510-22-P